DEPARTMENT OF TRANSPORTATION

Federal Aviation Administration

14 CFR Part 39

[Docket No. FAA-2005-20293; Directorate Identifier 2004-SW-34-AD]

RIN 2120-AA64

Airworthiness Directives; Eurocopter France Model AS355E, F, F1, F2, and N Helicopters

AGENCY: Federal Aviation Administration, DOT.

ACTION: Notice of proposed rulemaking (NPRM).

SUMMARY: This document proposes superseding an existing airworthiness directive (AD) for the specified Eurocopter France (ECF) model helicopters. That AD currently requires replacing certain main or combiner gearboxes with airworthy gearboxes. Further investigation has shown that the main gearbox is not affected, and this action would require replacing a certain combiner gearbox with a modified airworthy gearbox. This proposal is prompted by a report of a freewheel unit slipping resulting in an engine overspeed and shutdown. Also, this proposal is prompted by the conclusion of the investigation, which finds the freewheel slippage is due to the surface treatment applied to certain freewheel rollers in the combiner gearbox. The actions specified by the proposed AD are intended to prevent an engine overspeed, an engine shutdown, and subsequent loss of control of the helicopter.

DATES: Comments must be received by April 11, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may examine the comments to this proposed AD in the AD docket on the Internet at http://dms.dot.gov.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION:

Comments Invited

We invite you to submit any written data, views, or arguments regarding this proposed AD. Send your comments to the address listed under the caption ADDRESSES. Include the docket number “FAA-2005-20293, Directorate Identifier 2004-SW-34-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

On January 8, 2004, we issued Emergency AD 2004-01-51 followed by the publication in the Federal Register of the final rule AD, issued February 20, 2004, Amendment 39-13495, Docket No. 2004-SW-34-AD (69 FR 9201, February 27, 2004) for the specified model helicopters. The AD requires replacing a main or combiner gearbox received from Eurocopter Marignane, France, works with airworthy gearboxes received from another source. This was an interim action pending the results of an investigation. That action was prompted by a report of a main gearbox free-wheel unit slipping, resulting in an engine overspeed and shut down, which occurred during the single-engine phase of an acceptance flight. This condition, if not corrected, could result in an engine overspeed, an engine shut down, and subsequent loss of control of the helicopter.

Since issuing those ADs, the FAA has reviewed ECF Alert Telex No. 63.00.21 R2, dated February 4, 2004 (AT 63.00.21 R2). The Alert Telex describes the conclusion of the investigation that the freewheel slippage is due to the surface treatment applied to freewheel rollers, pre-MOD 077212. The freewheel rollers are located in the combiner gearbox; therefore, the main gearbox has been eliminated as the cause of this unsafe condition. The results of the investigation led ECF to cancel the cleaning procedure described in Alert Telex No. 63.00.21 R1, dated December 19, 2003, but to extend the effectivity of their instructions to all combiner gearboxes. Also, Alert Telex 63.00.21 R2 specifies modifying the combiner gearboxes at an approved repair station by replacing the freewheel rollers and after that recording the modification on the Equipment Log Card.

The Direction Generale De L'Aviation Civile (DGAC), the airworthiness authority for France, notified the FAA that an unsafe condition may exist on the specified model helicopters. The DGAC advises of a combiner gearbox freewheel slippage with resulting engine shutdown due to overspeed, which occurred during the single-engine phase of an acceptance flight at the Eurocopter works. The DGAC classified AT 63.00.21 R2 as mandatory and issued AD F-2004-021, dated March 3, 2004, to ensure the continued airworthiness of these helicopters in France.

These helicopter models are manufactured in France and are type certificated for operation in the United States under the provisions of 14 CFR 21.29 and the applicable bilateral agreement. Pursuant to the applicable bilateral agreement, the DGAC has kept the FAA informed of the situation described above. We have examined the findings of the DGAC, reviewed all available information, and determined that AD action is necessary for products of these type designs that are certificated for operation in the United States.

This previously described unsafe condition is likely to exist or develop on other helicopters of the same type design. Therefore, the proposed AD would supersede AD 2004-01-51 to require, before further flight, replacing each combiner gearbox pre-MOD 077212 that has logged 10 hours or less TIS with a combiner gearbox modified by replacing the free-wheel rollers.

We estimate that this proposed AD would affect 104 helicopters of U.S. registry, and the proposed actions would take about ½ work hour to determine applicability and 12 work hours to replace a gearbox at an average labor rate of $65 per work hour. Required parts would cost about $97,000 per helicopter. Based on these figures, we estimate the total cost impact of the proposed AD on U.S. operators to be $981,180 assuming 10 gearboxes are replaced.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-13495 (69 FR 9201, February 27, 2004), and by adding a new airworthiness directive (AD), to read as follows:

Eurocopter France: Docket No. FAA-2005-20293; Directorate Identifier 2004-SW-34-AD. Supersedes AD 2004-01-51, Amendment 39-13495, Docket No. 2003-SW-56-AD.

Applicability: Model AS355E, F, F1, F2, and N helicopters with a pre-MOD 077212 combiner gearbox that has 10 or less hours time-in-service installed, certificated in any category.

Compliance: Before further flight, unless accomplished previously.

To prevent an engine overspeed, an engine shutdown, and subsequent loss of control of the helicopter, accomplish the following:

(a) Before further flight, replace each pre-MOD 077212 combiner gearbox with a combiner gearbox modified by replacing the freewheel rollers in accordance with MOD 077212.

Note 1: Eurocopter France Alert Telex No. 63.00.21 R2, dated February 4, 2004, pertains to the subject AD.

(b) Performing paragraph (a) of this AD is terminating action for the requirements of this AD.

(c) To request a different method of compliance or a different compliance time for this AD, follow the procedures in 14 CFR 39.19. Contact the Safety Management Group, FAA, for information about previously approved alternative methods of compliance.

(d) Special flight permits will not be issued.

Note 2: The subject of this AD is addressed in Direction Generale de L'Aviation Civile, France, AD No. F-2004-021, dated March 3, 2004.

Issued in Fort Worth, Texas, on January 24, 2005.
Mark R. Schilling,
Acting Manager, Rotorcraft Directorate, Aircraft Certification Service.

[FR Doc. 05-2590 Filed 2-9-05; 8:45 am]

BILLING CODE 4910-13-P